DEPARTMENT OF THE TREASURY

Internal Revenue Service

Open Meeting of the Taxpayer Advocacy Panel, E-Filing Issue Committee

AGENCY: Internal Revenue Service (IRS), Treasury.

ACTION: Cancellation notice.

SUMMARY: The open meeting of the E-Filing Issue Committee has been cancelled.

DATES: The meeting was scheduled for Thursday, January 8, 2004, from 3 to 4 p.m., Eastern Time.

FOR FURTHER INFORMATION CONTACT: Mary Ann Delzer at 1-888-912-1227, or (414) 297-1604.

SUPPLEMENTARY INFORMATION: Notice is hereby given pursuant to section 10(a)(2) of the Federal Advisory Committee Act, 5 U.S.C. App. (1988) that the meeting of the Taxpayer Advocacy Panel, E-Filing Issue Committee scheduled for Thursday, January 8, 2004, from 3 to 4 p.m., Eastern standard time via a telephone conference call has been cancelled. You can submit written comments to the panel by faxing to (414) 297-1623, or by mail to Taxpayer Advocacy Panel, Stop 1006MIL, 310 West Wisconsin Avenue, Milwaukee, WI 53203-2221.

Dated: December 15, 2003.
Bernard Coston,
Director, Taxpayer Advocacy Panel.

[FR Doc. 03-31370 Filed 12-18-03; 8:45 am]

BILLING CODE 4830-01-P